DEPARTMENT OF TRANSPORTATION

Federal Transit Administration

Preparation of an Environmental Impact Statement for West Santa Ana Branch Transit Corridor Project in Los Angeles, CA

AGENCY: Federal Transit Administration (FTA), DOT.

ACTION: Notice of Intent to Prepare an Environmental Impact Statement.

SUMMARY: The Federal Transit Administration (FTA) and Los Angeles County Metropolitan Transportation Authority (Metro) has initiated the preparation of an Environmental Impact Statement (EIS) for the West Santa Ana Branch (WSAB) Transit Corridor Project (Project) pursuant to the National Environmental Policy Act (NEPA). The Project is a proposed light rail transit (LRT) line that would extend approximately 20 miles and connect downtown Los Angeles to southeast Los Angeles County, serving the cities and communities of Arts District, Little Tokyo, Los Angeles, unincorporated Florence-Graham community of Los Angeles County, Vernon, Huntington Park, Bell, Cudahy, South Gate, Downey, Paramount, Bellflower, Cerritos, and Artesia.

DATES: Written comments on the scope of the EIS should be sent to Ms. Fanny Pan, Project Manager, by August 4, 2017. Public scoping meetings are held on June 15, 2017 at 6 p.m. to 8 p.m., June 20, 2017 at 6 p.m. to 8 p.m., June 21, 2017 at 3 p.m. to 5 p.m. (Businesses) and 6 p.m. to 8 p.m. (General Public), and June 24, 2017 at 10 a.m. to 12 p.m. at locations indicated under ADDRESSES below. An interagency scoping meeting is held on June 19, 2017 at the Metro headquarters at 2 p.m. to 4 p.m.

ADDRESSES: Written comments on the scope of the EIS should be sent to Ms. Fanny Pan, Project Manager, Metro, One Gateway Plaza, Mail Stop: 99-22-4, Los Angeles, California 90012, or via email at WSAB@metro.net. Comments may also be offered at the public scoping meetings. The addresses for the public scoping meetings are as follow:

• Thursday, June 15, 2017, 6 p.m. to 8 p.m., T. Mayne Thompson Park, 14001 S. Bellflower Blvd., Bellflower, CA 90706;

• Tuesday, June 20, 2017, 6 p.m. to 8 p.m., South Gate Girls Club House, 4940 Southern Ave., South Gate, CA 90280;

• Wednesday, June 21, 2017, 3 p.m. to 5 p.m. (Businesses), 6 p.m. to 8 p.m. (General Public), Nishi Hongwanji Buddhist Temple, 815 E. 1st St., Los Angeles, CA 90012;

• Saturday, June 24, 2017, 10 a.m. to 12 p.m., Huntington Park Community Center, 6925 Salt Lake Ave., Huntington Park, CA 90255.

These locations are accessible by persons with disabilities. Spanish translation and Spanish-speaking staff will be provided at all Scoping Meetings. Japanese translation will be provided at the June 21, 2017 Scoping Meeting. ADA accommodations and other translations are available by calling (323) 466-3876 or California Relay Service at 711 at least 72 hours in advance of the meeting. The Scoping Meeting on Tuesday, June 20, 2017 will be broadcast via Live Webcast for those unable to attend the meeting in person. The broadcast will be accessible starting at 6:30 p.m. by visiting www.tinyurl.com/MetroWSAB. For more project information, please visit www.metro.net/wsab. A scoping information packet is available on the Metro Web site at: www.metro.net/wsab or by calling the project manager, Ms. Fanny Pan, at (213) 922-6262. Copies will also be available at the scoping meetings.

FOR FURTHER INFORMATION CONTACT: Ms. Candice Hughes, Environmental Protection Specialist, Federal Transit Administration, 888 S. Figueroa Street, Suite 440, Los Angeles, CA 90017 at (213) 629-8613, or via email at candice.hughes@dot.gov.

SUPPLEMENTARY INFORMATION: The EIS will be prepared in accordance with the requirements of the NEPA and its implementing regulations. The EIS process will evaluate alternatives recommended for further study as a result of the planning Alternatives Analysis approved by the Southern California Association of Governments in February 2013 and the Project Definition for Environmental Scoping including four Northern Alignment Options approved by the Metro Board on April 27, 2017, and available on the Metro Web site (www.metro.net/wsab).

Pursuant to 23 CFR 771.123(j), at the conclusion of the Draft EIS circulation period, Metro will prepare a report identifying the locally preferred alternative (LPA). Prior to commencement of a Final EIS, the LPA will be adopted by the Metro Board and included in the Metropolitan Transportation Plan identifying sufficient federal and other funding for the project, in order to be evaluated under the NEPA process.

LACMTA will also use the EIS document to comply with the California Environmental Quality Act (CEQA), which requires an Environmental Impact Report (EIR). The purpose of this notice is to alert interested parties regarding the intent to prepare the EIS, to provide information on the nature of the proposed project and possible alternatives, and to invite public participation in the EIS process, including providing comments on the scope of the Draft EIS, and to announce that public scoping meetings will be conducted.

Scoping: Scoping is the process of determining the scope, focus, and content of an EIS. FTA and Metro invite all interested individuals and organizations, public agencies, and Native American tribes to comment on the scope of the Draft EIS, including the project's purpose and need, the alternatives to be studied, the impacts to be evaluated, and the evaluation methods to be used. Comments should focus on: Alternatives that may be less costly or have less environmental or community impacts while achieving similar transportation objectives, and the identification of any significant social, economic, or environmental issues relating to the alternatives.

NEPA “scoping” has specific and fairly limited objectives, one of which is to identify the significant issues associated with alternatives that will be examined in detail in the document, while simultaneously limiting consideration and development of issues that are not truly significant. It is in the NEPA scoping process that potentially significant environmental impacts—those that give rise to the need to prepare an EIS—should be identified; impacts that are deemed not to be significant need not be developed extensively in the context of the impact statement, thereby keeping the statement focused on impacts of consequence. Transit projects may also generate environmental benefits; these should be highlighted as well—the impact statement process should draw attention to positive impacts, not just negative impacts.

Probable Effects: The purpose of this EIS process is to study, in a public setting, the effects of the proposed project and its alternatives on the physical, human, and natural environment. The FTA and Metro will evaluate all significant environmental, social, and economic impacts of the construction and operation of the proposed project. The probable impacts will be determined as a part of the project scoping. Unless further screening illuminates areas of possible impact, resource areas will be limited to those uncovered during scoping. Measures to avoid, minimize, and mitigate adverse impacts will also be identified and evaluated.

The Proposed Project: The Project is a proposed LRT line that would extend approximately 20 miles and connect downtown Los Angeles to southeast Los Angeles County, serving the cities and communities of Arts District, Little Tokyo, Los Angeles, unincorporated Florence-Graham community of Los Angeles County, Vernon, Huntington Park, Bell, Cudahy, South Gate, Downey, Paramount, Bellflower, Cerritos, and Artesia.

Purposes of and Need for the Proposed Project: The Project will provide reliable transit service to meet the future mobility needs of residents, employees, and visitors who travel within downtown Los Angeles, and portions of the Gateway Cities subregion. This new transit service will increase mobility and connectivity for historically underserved, transit-dependent and Environmental Justice communities; reduce travel times on local and regional transportation networks; and accommodate substantial future employment and population growth.

Alternatives: In March 2010, the Southern California Association of Governments (SCAG), serving as the Metropolitan Planning Organization (MPO) for Imperial, Los Angeles, Orange, Riverside, San Bernardino, and Ventura Counties, initiated the Pacific Electric Right-of-Way (PEROW)/WSAB Alternatives Analysis (AA) Study evaluating transit connections and modes for the 34 mile corridor from Union Station in downtown Los Angeles to the City of Santa Ana in Orange County. In February 2013, SCAG approved the PEROW/WSAB AA Study and recommended the LRT alignment as the preferred transit mode and two northern alignment alternatives for further consideration: West Bank 3 along the west bank of the Los Angeles River, and East Bank along the east bank of the Los Angeles River. In September 2015, based upon the West Bank 3 alternative, four new northern alignment options (Pacific/Alameda, Pacific/Vignes, Alameda, and Alameda/Vignes) were identified as part of the Technical Refinement Study (TRS) that was completed and received by the Metro Board. Prior to initiation of the environmental scoping, a screening evaluation was conducted to further refine the recommendations from the TRS and recommended the four highest performing northern alignment options to be carried into Environmental Scoping. In April 2017, the Metro Board approved the Project definition for environmental scoping and received and filed the WSAB Transit Corridor Northern Alignment Options Screening Report.

In addition, in the event that the WSAB line was to be extended to Orange County in the future, the Project will evaluate an optional station at Bloomfield Avenue (just north of the Los Angeles County-Orange County boundary).

The EIS Process and the Role of Participating Agencies and the Public: The EIS will be prepared in accordance with NEPA and its implementing regulations issued by the Council on Environmental Quality (40 CFR parts 1500-1508) and with the FTA/Federal Highway Administration regulations “Environmental Impact and Related Procedures” (23 CFR part 771). In accordance with 23 CFR 771.105(a) and 23 CFR 771.133, FTA will comply with all federal environmental laws, regulations, and executive orders applicable to the proposed project during the environmental review process to the maximum extent practicable. These requirements include, but are not limited to, the environmental and public hearing provisions of federal transit laws (49 U.S.C. 5301(e), 5323(b), and 5324); the project-level air quality conformity regulation of the U.S. Environmental Protection Agency (EPA) (40 CFR part 93); the Section 404(b)(1) guidelines of EPA (40 CFR part 230); the regulation implementing Section 106 of the National Historic Preservation Act (36 CFR part 800); the regulation implementing Section 7 of the Endangered Species Act (50 CFR part 402); Section 4(f) (23 U.S.C. 38 and 49 U.S.C. 303); and Executive Orders 12898 on environmental justice, 11988 on floodplain management, and 11990 on wetlands.

Regulations implementing NEPA, as well as provisions of the recently enacted Safe, Accountable, Flexible, Efficient Transportation Equity Act: A Legacy for Users (SAFETEA-LU), call for public involvement in the EIS process. Section 6002 of SAFETEA-LU requires that FTA and MDT do the following: (1) Extend an invitation to other Federal and non-Federal agencies and Indian tribes that may have an interest in the proposed project to become “participating agencies,” (2) provide an opportunity for involvement by participating agencies and the public in helping to define the purpose and need for a proposed project, as well as the range of alternatives for consideration in the impact statement, and (3) establish a plan for coordinating public and agency participation in and comment on the environmental review process. Any Federal or non-Federal agency or Indian tribe interested in the Project that does not receive an invitation to become a participating agency should notify at the earliest opportunity the Project Manager identified above under ADDRESSES.

A comprehensive public involvement program has been developed and a public and agency involvement Coordination Plan will be created. The program includes a project Web site (www.metro.net/wsab); outreach to local and county officials and community and civic groups; a public scoping process to define the issues of concern among all parties interested in the project; establishment of a community advisory committee and organizing periodic meetings with that committee; a public hearing on release of the draft EIS; establishment of walk-in project offices in the corridor; and development and distribution of project newsletters.

Leslie Rogers,
Regional Administrator, FTA Region 9.

[FR Doc. 2017-13204 Filed 6-23-17; 8:45 am]

BILLING CODE P